DEPARTMENT OF HOMELAND SECURITY

Federal Emergency Management Agency

[Docket ID: FEMA-2019-0013; OMB No. 1660-0054]

Agency Information Collection Activities: Submission for OMB Review; Comment Request; Assistance to Firefighters Grant Program and Fire Prevention and Safety Grants-Grant Application Supplemental Information

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 30, 2019.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or William Dunham, Fire Program Specialist, Grant Program Directorate, 202-786-9813.

SUPPLEMENTARY INFORMATION: This proposed information collection previously published in the Federal Register on June 17, 2019 at 84 FR 28067 with a 60-day public comment period. No comments were received. The purpose of this notice is to notify the public that FEMA will submit the information collection abstracted below to the Office of Management and Budget for review and clearance.

Collection of Information

Title: Assistance to Firefighters Grant Program and Fire Prevention and Safety Grants-Grant Application Supplemental Information.

Type of information collection: Revision of a currently approved information collection.

OMB Number: 1660-0054.

Form Titles and Numbers: FEMA Form 080-2, AFG Application (General Questions and Narrative); FEMA Form 080-0-2a, Activity Specific Questions for AFG

Vehicle Applicants; FEMA Form 080-0-2b, Activity Specific Questions for AFG Operations and Safety Applications; FEMA Form 080-0-3, Activity Specific Questions for Fire Prevention and Safety Applicants; FEMA Form 080-0-3a, Fire Prevention and Safety; FEMA Form 080-0-3b, Research and Development; and FEMA Form 080-0-0-13, Semi-Annual Performance Report; FEMA Form 080-0-0-16 Final Performance Report.

Abstract: The FEMA forms for this collection are used to objectively evaluate each of the anticipated applicants to determine which applicants' submission in each of the AFG & FP&S activities are close to the established program priorities. FEMA also uses the information to determine eligibility and whether the proposed use of funds meets the requirements and intent of AFG legislation.

Affected Public: Not-for-profit institutions, State, Local or Tribal Government.

Estimated Number of Respondents: 27,220.

Estimated Number of Responses: 29,830.

Estimated Total Annual Burden Hours: 167,290.34.

Estimated Total Annual Respondent Cost: $ 9,426,559.74.

Estimated Respondents' Operation and Maintenance Costs: N/A.

Estimated Respondents' Capital and Start-Up Costs: N/A.

Estimated Total Annual Cost to the Federal Government: $3,315,334.75.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Directory, Information Management Division, Office of the Chief Administrative Officer, Mission Support, Federal Emergency Management Agency, Department of Homeland Security.

[FR Doc. 2019-18668 Filed 8-28-19; 8:45 am]

BILLING CODE 9111-78-P